DEPARTMENT OF HEALTH AND HUMAN SERVICES

Substance Abuse and Mental Health Services Administration

Advisory Committee for Women's Services; Notice of Meeting

Pursuant to Public Law 92-463, notice is hereby given of a meeting of the Substance Abuse and Mental Health Services Administration's (SAMHSA) Advisory Committee for Women's Services (ACWS) on April 10, 2013.

The meeting is open to the public. It will include a report from the Associate Administrator for Women's Services and Chair of the ACWS, an update from the SAMHSA Women's Coordinating Committee and an update from the Office of Behavioral Health Equity on Trauma. The meeting will also include discussions of Girls in Transition and Disparities in the Criminal Justice System.

The meeting is open to the public and will be held at the SAMHSA building, 1 Choke Cherry Road, Rockville, MD 20857 in Conference Room 8-1070. Attendance by the public will be limited to space available. Interested persons may present data, information, or views, orally or in writing, on issues pending before the committee. Written submissions should be forwarded to the contact person on or before one week prior to the meeting. Oral presentations from the public will be scheduled at the conclusion of the meeting. Individuals interested in making oral presentations are encouraged to notify the contact on or before one week prior to the meeting. Five minutes will be allotted for each presentation.

The meeting may be accessed via teleconference. To attend on site, obtain the call-in number and access code, submit written or brief oral comments, or request special accommodations for persons with disabilities, please register on-line at http://nac.samhsa.gov/Registration/meetingsRegistration.aspx, or communicate with SAMHSA's Committee Management Officer, Ms. Geretta Wood (see contact information below).

Substantive meeting information and a roster of Committee members may be obtained either by accessing the SAMHSA Committees' Web site at https://nac.samhsa.gov/WomenServices/index.aspx, or by contacting Ms. Wood. The transcript for the meeting will be available on the SAMHSA Committees' Web site within three weeks after the meeting.

Committee Name: SAMHSA's Advisory Committee for Women's Services.

Date/Time/Type: Wednesday, April 10, 2013 from 9 a.m. to 5:30 EDT: OPEN.

Place: SAMHSA, 1 Choke Cherry Road, SAMHSA Conference Room 8-1070, Rockville, Maryland 20857.

Contact: Geretta Wood, Committee Management Officer and Designated Federal Official, SAMHSA National Advisory Council and SAMHSA's Advisory Committee for Women's Services, 1 Choke Cherry Road, Rockville, Maryland 20857, Telephone: (240) 276-2326, Fax: (240) 276-2252 and Email: geretta.wood@samhsa.hhs.gov.

Cathy J. Friedman,
Public Health Analyst, SAMHSA.

[FR Doc. 2013-05755 Filed 3-12-13; 8:45 am]

BILLING CODE 4162-20-P